DEPARTMENT OF COMMERCE

National Oceanic and Atmospheric Administration

[I.D. 071204B]

Endangered Species; Permit File No. 1260

AGENCY: National Marine Fisheries Service (NMFS), National Oceanic and Atmospheric Administration (NOAA), Commerce.

ACTION: Receipt of application for modification.

SUMMARY: Notice is hereby given that the NMFS, Southeast Fisheries Science Center (SEFSC), 75 Virginia Beach Drive, Miami, Florida 33149, has requested a modification to scientific research Permit No. 1260.

DATES: Written comments or requests for a public hearing must be received on or before August 18, 2004.

ADDRESSES: The modification request and related documents are available for review upon written request or by appointment in the following offices:

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

Written comments or requests for a public hearing must be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may be submitted by facsimile to (301)713-0376, provided the facsimile is confirmed by hard copy submitted by mail and postmarked no later than the closing date of the comment period. Comments may also be submitted by e-mail. The mailbox address for providing e-mail comments is NMFS.Pr1Comments@noaa.gov. Include in the subject line of the e-mail comment the following document identifier: File No. 1260 Modification-hoop net study.

FOR FURTHER INFORMATION CONTACT: Patrick Opay, (301)713-1401 or Ruth Johnson, (301)713-2289.

SUPPLEMENTARY INFORMATION: The subject modification request to Permit No. 1260, issued on June 29, 2001 (66 FR 34621), is requested under the authority of the Endangered Species Act of 1973 as amended (16 U.S.C. 1531 et seq.) and the regulations governing the taking, importing, and exporting of endangered and threatened species (50 CFR 222-226).

Permit No. 1260 authorizes the SEFSC to take loggerhead (Caretta caretta), leatherback (Dermochelys coriacea), Kemp's ridley (Lepidochelys kempii), hawksbill (Eretmochelys imbricata), green (Chelonia mydas) and olive ridley (Lepidochelys olivacea) sea turtles for scientific research. The SEFSC is requesting authorization to annually capture, measure, weigh, flipper and PIT tag, tissue biopsy, blood sample and release an additional 100 leatherback, 120 loggerhead, 100 green, 50 hawksbill, 50 Kemp's ridley and 20 olive ridley sea turtles. A subset of 20 of the leatherbacks, 20 of the loggerheads, 20 of the greens, 20 of the hawksbills, 20 of the Kemp's ridleys and 5 of the olive ridleys captured annually will also have satellite transmitters attached to them. Turtles will be captured using a hoop net.

The research will help the SEFSC obtain estimates of survival for juveniles and adults in their benthic and pelagic environments, identify foraging grounds and migration corridors, and determine how both juveniles and adults utilize habitat and are distributed in space and time. The research will help NMFS better understand these sea turtle species' roles in their ecosystems and provide information that can improve our ability to conserve and manage them.

Dated: July 13, 2004.
Stephen L. Leathery,
Chief, Permits, Conservation and Education Division, Office of Protected Resources, National Marine Fisheries Service.

[FR Doc. 04-16359 Filed 7-16-04; 8:45 am]

BILLING CODE 3510-22-S